DEPARTMENT OF STATE

[Delegation of Authority: 364-1]

Membership on the Presidential Task Force on Wildlife Trafficking

By virtue of the authority vested in the Secretary of State, including Section 1 of the State Department Basic Authorities Act, as amended (22 U.S.C. 2651a), and Executive Order 13648 of July 1, 2013 (the Executive Order), I hereby designate the Under Secretary for Economic Growth, Energy, and the Environment (the Under Secretary) as the Department of State representative to the Presidential Task Force on Wildlife Trafficking, established by Section 2 of the Executive Order; together with the authorities necessary to carry out such function. In the event that the position of the Under Secretary is vacant, I hereby designate the Assistant Secretary for Oceans and International Environmental and Scientific Affairs to be the Department of State representative for purposes of the Executive Order. Any act, executive order, regulation, or procedure subject to, or affected by, this delegation shall be deemed to be such act, executive order, regulation, or procedure as amended from time to time.

Notwithstanding this delegation of authority, the Secretary and the Deputy Secretary may at any time exercise any authority or function delegated by this delegation of authority. This delegation of authority shall be published in the Federal Register.

Rex W. Tillerson,
Secretary of State.

[FR Doc. 2017-21358 Filed 10-3-17; 8:45 am]

BILLING CODE 4710-10-P